MARINE MAMMAL COMMISSION

Committee Management; Notice of Establishment; Advisory Committee on Acoustic Impacts on Marine Mammals

AGENCY: Marine Mammal Commission.

ACTION: Charter filed for the Advisory Committee on Acoustic Impacts on Marine Mammals.

SUMMARY: The Chairman of the Marine Mammal Commission (Commission) has determined that the establishment of the Advisory Committee on Acoustic Impacts on Marine Mammals (Committee) is necessary and in the public interest in connection with fulfilling Commission mandates created under the Omnibus Appropriations Act of 2003 (Pub. L. 108-7). This determination follows consultation with the Office of Management and Budget and with the Committee Management Secretariat, General Services Administration (GSA).

In accordance with the Federal Advisory Committee Act, the charter has been filed with the GSA, the chair of the Commission, the Senate Committee on Commerce, Science, and Transportation, and the House of Representatives Committee on Resources. A copy of the charter has also been submitted to the Library of Congress.

Name of Committee: Advisory Committee on Acoustic Impacts on Marine Mammals

Purpose and Objective: Committee members will participate in a policy dialogue to review available information, identify research needs, and recommend management actions and strategies related to the impacts of antyhropogenic sound on marine mammals.

Balanced Membership Plans: In an effort to assess the need for an advisory committee, over eighty individuals from a wide variety of interested stakeholder groups were interviewed. The Commission also solicited comments and nominations for the Committee in the Federal Register.

The Committee will consist of approximately 26 members representing entities who activities introduce anthropogenic sounds into the marine environment, government regulatory and funding agencies, non-governmental organizations including environmental groups, and scientists with pertinent expertise. Every effort has been made to select Committee members who have a high level of expertise and interest concerning the impacts of sound on marine mammals and other components of the marine environment, who have decision-making authority, and who have demonstrated their ability to represent a constituency and communicate effectively with constituents whose interests they represent.

Duration: Continuing.

Responsible Commission Official: David Cottingham, Executive Director, Marine Mammal Commission, 4340 East-West Hwy., Rm. 905, Bethesda, MD 20814.

DATES: The Commission intends to appoint Committee members in December 2003 and convene the Committee's first meeting in early February 2004. A list of Committee members will be posted on the Commission's Web site (www.mmc.gov).

FOR FURTHER INFORMATION CONTACT: Erin Vos, Project Manager for Sound-Related Meetings and Actions, Marine Mammal Commission, 4340 East-West Hwy., Rm. 905, Bethesda, MD 20814, e-mail: evos@mmc.gov, tel.: (301) 504-0087, fax: (301) 504-0099; or visit the Commission Web site at www.mmc.gov.

Dated: December 4, 2003.
David Cottingham,
Executive Director.

[FR Doc. 03-30682 Filed 12-10-03; 8:45 am]

BILLING CODE 6820-31-M